DEPARTMENT OF ENERGY

Extension of Public Comment Period Hydrogen Energy California's Integrated Gasification Combined Cycle Project Preliminary Staff Assessment and Draft Environmental Impact Statement

AGENCY: U.S. Department of Energy.

ACTION: Extension of public comment period; notice of public hearing.

SUMMARY: The U.S. Department of Energy (DOE) published a notice of availability and public hearing on July 22, 2013 (78 FR 43870) that provided for a comment period ending September 3, 2013. DOE is extening the public comment period to October 1, 2013 and announces public hearings for the Hydrogen Energy California's Integrated Gasification Combined Cycle Project Preliminary Staff Assessment/Draft Environmental Impact Statement (PSA/DEIS) (DOE/EIS—0431D).

DATES: DOE extends the public comment period to October 1, 2013. Comments submitted to California Energy Commission (CEC) or DOE concerning the Hydrogen Energy California Project (HECA) prior to this meeting do not need to be resubmitted as a result of this extension of the comment period.

The PSA/DEIS is available on the internet at http://www.energy.gov/nepa/downloads/eis-0431-draft-environmental-impact-statement or on the CEC electronic docket site at http://www.energy.ca.gov/2013publications/CEC-700-2013-001/CEC-700-2013-001-PSA.pdf. Copies of the PSA/DEIS are available for public review at the following locations: Beale Memorial Library, 701 Truxtun Avenue, Bakersfield, CA 93301; Holloway-Gonzales Branch Library, 506 E. Brundage Lane, Bakersfield, CA 93307; and Southwest Memorial Library, 8301 Ming Avenue, Bakersfield, CA 93301.

Meetings: OE and CEC will hold joint public hearings as follows:

Tuesday, September 17, 2013, Buttonwillow Recreation and Park District, Multi-purpose Facility, 556 Milo Avenue, Buttonwillow, California 93206, 10:00 a.m. CEC Workshop, 6:00 p.m.-8:00 p.m. Formal Public Comments.

Wednesday, September 18, 2013 (Same location as above), 9:00 a.m.-8:00 p.m. CEC Workshop and Committee conference, 6:00 p.m.-8:00 p.m. Formal Public Comments, (Committee conference may continue after the close of formal public comment).

FOR FURTHER INFORMATION CONTACT: For further information on the proposed project, contact Mr. Fred Pozzuto, U.S. Department of Energy, National Energy Technology Laboratory, 3610 Collins Ferry Road, P.O. Box 880, Morgantown, WV. Additional information may be requested by email: fred.pozzuto@netl.doe.gov or by telephone at (304) 285-5219, or toll free at 1-(800) 432-8330, ext. 5219. For general information regarding DOE NEPA process, please contact: Ms. Carol M. Borgstrom, Director, Office of NEPA Policy and Compliance (GC-54), U.S. Department of Energy, 1000 Independence Avenue SW., Washington, DC 20585-0103; telephone: (202) 586-4600. The PSA/DEIS is available on the internet at http://www.energy.gov/nepa/downloads/eis-0431-draft-environmental-impact-statement or on the CEC electronic docket site at http://www.energy.ca.gov/2013publications/CEC-700-2013-001/CEC-700-2013-001-PSA.pdf. Copies of the PSA/DEIS are available for public review at the following locations: Beale Memorial Library, 701 Truxtun Avenue, Bakersfield, CA 93301; Holloway-Gonzales Branch Library, 506 E. Brundage Lane, Bakersfield, CA 93307; and Southwest Memorial Library, 8301 Ming Avenue, Bakersfield, CA 93301.

Dated: August 20, 2013.
Mark J. Matarrese,
Director, Office of Environment, Security, Safety & Health, Office of Fossil Energy.

[FR Doc. 2013-20713 Filed 8-23-13; 8:45 am]

BILLING CODE 6450-01-P